SMALL BUSINESS ADMINISTRATION

SBIC Licensing and Examination Fees Inflation Adjustment

AGENCY: U.S. Small Business Administration.

ACTION: Notice of SBIC fee increases.

SUMMARY: The U.S. Small Business Administration (SBA) is providing notice of the increased licensing and examination fees charged to Small Business Investment Companies (SBICs) due to the annual inflation adjustment required under SBIC program regulations.

DATES: The changes to the SBIC program licensing and examination fees identified in this notice take effect on October 1, 2022.

FOR FURTHER INFORMATION CONTACT: Louis Cupp, Office of Investment and Innovation, at 202-619-0511 or louis.cupp@sba.gov. If you are deaf, hard of hearing, or have a speech disability, please dial 7-1-1 to access telecommunications relay services.

SUPPLEMENTARY INFORMATION: Beginning October 1, 2021, the SBIC program regulations at 13 CFR 107.300(b)(2) and 107.692(b)(2) require SBA to annually adjust the licensing and examination fees for SBICs using the Inflation Adjustment defined in 13 CFR 107.50. This document provides notice of that adjustment. The table below identifies the amounts of the adjusted licensing and examination fees payable by SBICs and SBIC license applicants, which become effective on October 1, 2022.

SBIC fee type | Fees amounts (effective Oct. 1, 2022)
Licensing Fees (§ 107.300)
Initial Licensing Fee § 107.300(a) | $11,500
Final Licensing Fee § 107.300(b) | 40,200
Examination Fees (§ 107.692(b))
Minimum Base Fee | 10,400
Maximum Base Fee for non-Leveraged SBICs | 34,500
Maximum Base Fee for Leveraged SBICs | 50,600
Delay Fee | 800

Authority: 15 U.S.C. 681(e) and 687b(b); 13 CFR 107.300 and 107.692.

Bailey DeVries,
Associate Administrator, Office of Investment and Innovation.

[FR Doc. 2022-18167 Filed 8-23-22; 8:45 am]

BILLING CODE 8026-09-P